DEPARTMENT OF TRANSPORTATION

Office of the Secretary

Notice of Applications for Certificates of Public Convenience and Necessity and Foreign Air Carrier Permits Filed Under Subpart B (Formerly Subpart Q) During the Week Ending October 27, 2012

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0178.

Date Filed: October 22, 2012.

Due Date for Answers, Conforming Applications, or Motion to Modify Scope: November 12, 2012.

Description: Application of Scott Air, LLC (“SCA”) requesting a certificate of public convenience and necessity to the extent necessary to authorize SCA to engage in interstate scheduled air transportation of persons, property and mail utilizing small aircraft.

Docket Number: DOT-OST-2012-0180.

Date Filed: October 23, 2012.

Due Date for Answers, Conforming Applications, or Motion to Modify Scope: November 13, 2012.

Description: Application of Gama Charters Inc. (“Gama”) requesting a certificate of public convenience and necessity authorizing Gama to engage in the foreign charter air transportation of persons, property and mail with a Boeing Business Jet aircraft (“BBJ”). Gama also requests the Department exercise its discretionary authority to issue Gama an exemption pendente lite pending Department action on the instant certificate application.

Docket Number: DOT-OST-2012-0181.

Date Filed: October 23, 2012.

Due Date for Answers, Conforming Applications, or Motion to Modify Scope: November 13, 2012.

Description: Application of Gama Charters Inc. (“Gama”) requesting a certificate of public convenience and necessity authorizing Gama to engage in interstate charter air transportation of persons, property and mail with a Boeing Business Jet aircraft (“BBJ”). Gama also requests an exemption pendente lite to the extent necessary to allow it to conduct Part 135 services with BBJ aircraft pending Department action on the instant application.

Docket Number: DOT-OST-2010-0093.

Date Filed: October 24, 2012.

Due Date for Answers, Conforming Applications, or Motion to Modify Scope: November 14, 2012.

Description: Application of Open Joint Stock Company Transaero Airlines (“Transaero”) requesting to amend its foreign air carrier permit to include authority for Transaero to provide scheduled foreign air transportation of persons, property, and mail (i) from any point or points behind the Russian Federation, via any point or points in the Russian Federation and intermediate points, to San Francisco, California, and (ii) from San Francisco, California, to any point or points in the Russian Federation and beyond.

Barbara J. Hairston,
Acting Program Manager, Docket Operations, Federal Register Liaison.

[FR Doc. 2012-27800 Filed 11-14-12; 8:45 am]

BILLING CODE 4910-9X-P